DEPARTMENT OF JUSTICE

Antitrust Division

Notice Pursuant to the National Cooperative Research and Production Act of 1993—American Society of Health-System Pharmacists

Notice is hereby given that, on September 9, 2004, pursuant to section 6(a) of the National Cooperative Research and Production Act of 1993, 15 U.S.C. 4301 et seq. (“the Act”), American Society of Health-System Pharmacists (“ASHP”) has filed written notifications simultaneously with the Attorney General and the Federal Trade Commission disclosing (1) the name and principal place of business of the standards development organization and (2) the nature and scope of its standards development activities. The notifications were filed for the purpose of invoking Act's provisions limiting the recovery of antitrust plaintiffs to actual damages under specified circumstances.

Pursuant to section 6(b) of the Act, the name and principal place of business of the standards development organization is: American Society of Health-System Pharmacists, Bethesda, MD. The nature and scope of ASHP's standards development activities are: The publication of guidance documents of varying scope that provide ongoing advice to pharmacy practitioners and health-systems to improve the medication use process, patient care and safety, and patient outcomes and quality of life.

Dorothy B. Fountain,
Deputy Director of Operations, Antitrust Division.

[FR Doc. 05-3437 Filed 2-22-05; 8:45 am]

BILLING CODE 4410-11-M